FEDERAL MARITIME COMMISSION

[Docket No. 04-07]

Trans-Net, Inc., v. FESCO Management Limited; Notice of Filing of Complaint and Assignment

Notice is given that a complaint has been filed by Trans-Net, Inc. (“Trans-Net”) against FESCO Ocean Management Limited (“Respondent”). Complainant contends that Respondent violated sections 5; 10(a)(1), (2) and (3); 10(b)(1), (2)(A), and (3); 10(d)(1); and 19(a) and (b) of the Shipping Act of 1984, 46 U.S.C. app sections 1704; 1709(a)(1), (2) and (3); (b)(1), (2)(A) and (3), and (d)(1); 1718(a) and (b); and 46 CFR 535.901 of the Commission's regulations. Specifically, Complainant alleges that Respondent operated under and failed to file with the Commission a connecting carrier agreement; misrepresented its carrier status and implemented unlawful agreements to obtain ocean transportation at unpublished rates that were less than would otherwise apply; failed to operate in accordance with the terms and conditions of a space charter agreement on file with the Commission; failed to provide service in accordance with the rates, charges, classifications, rules, and practices contained in its tariff; engaged in retaliatory actions against Trans Net; failed to establish and maintain reasonable regulations and practices in connection with receiving, handling, storing, or delivering property; and operated as a non-vessel-operating common carrier without an ocean transportation intermediary license or proof of financial responsibility. As a direct result of these allegations, Complainant claims that it has suffered and will continue to suffer substantial ongoing economic damages and injury. Complainant seeks an order finding Respondent to have violated the Shipping Act and the Commission's regulations; directing Respondent to cease and desist; awarding reparations, including interest, and attorney's fees, and any other and further relief as the Commission may determine to be warranted.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by July 1, 2005 and a final decision of the Commission shall be issued by October 31, 2005.

Bryant L. VanBrakle,
Secretary.

[FR Doc. 04-15429 Filed 7-6-04; 8:45 am]

BILLING CODE 6730-01-U